DEPARTMENT OF DEFENSE

Department of the Navy

[Docket ID USN-2018-HQ-0014]

Privacy Act of 1974; System of Records; Correction

AGENCY: Department of the Navy, DoD.

ACTION: Notice of a modified system of records; correction.

SUMMARY: On September 5, 2018, the Department of Defense published a system of records notice that proposed to modify Family and Unaccompanied Housing Program, NM11101-1. Subsequent to the publication of the notice, DoD discovered that the system number had published incorrectly. This notice corrects that error.

DATES: This correction is applicable on September 20, 2018.

FOR FURTHER INFORMATION CONTACT: Patricia Toppings, 571-372-0485.

SUPPLEMENTARY INFORMATION:

Correction

On September 5, 2018 (83 FR 45112-45115), the Department of Defense published a system of records notice, FR Doc. 2018-19204, that proposed to modify Family and Unaccompanied Housing Program, NM11101-1. Subsequent to the publication of the notice, DoD discovered that the system name had published incorrectly. The system name incorrectly published as “NM1110-01” in the two places it appeared in the notice. The system name is corrected as follows:

1. On page 45112, in the first column, in the SUMMARY paragraph, “NM1110-01” is corrected to read “NM11101-1.”

2. On page 45112, in the third column, in the SYSTEM NAME AND NUMBER paragraph, “NM1110-01” is corrected to read “NM11101-1.”

Dated: September 17, 2018.
Aaron T. Siegel,
Alternate OSD Federal Register Liaison Officer, Department of Defense.

[FR Doc. 2018-20513 Filed 9-19-18; 8:45 am]

BILLING CODE 5001-06-P